DEPARTMENT OF LABOR

Office of the Secretary

Agency Information Collection Activities; Submission for OMB Review; Comment Request; Concrete and Masonry Construction Standard

ACTION: Notice of availability; request for comments.

SUMMARY: The Department of Labor (DOL) is submitting this Occupational Safety and Health Administration (OSHA)-sponsored information collection request (ICR) to the Office of Management and Budget (OMB) for review and approval in accordance with the Paperwork Reduction Act of 1995 (PRA). Public comments on the ICR are invited.

DATES: The OMB will consider all written comments that agency receives on or before October 23, 2020.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Anthony May by telephone at 202-693-4129 (this is not a toll-free number) or by email at DOL_PRA_PUBLIC@dol.gov.

SUPPLEMENTARY INFORMATION: Comments are invited on: (1) Whether the collection of information is necessary for the proper performance of the functions of the Department, including whether the information will have practical utility; (2) if the information will be processed and used in a timely manner; (3) the accuracy of the agency's estimates of the burden and cost of the collection of information, including the validity of the methodology and assumptions used; (4) ways to enhance the quality, utility and clarity of the information collection; and (5) ways to minimize the burden of the collection of information on those who are to respond, including the use of automated collection techniques or other forms of information technology.

The Occupational Safety and Health Act of 1970 (the OSH Act) (29 U.S.C. 651 et seq.) authorizes information collection by employers as necessary or appropriate for enforcement of the OSH Act or for developing information regarding the causes and prevention of occupational injuries, illnesses, and accidents (29 U.S.C. 657). The OSH Act also requires that OSHA obtain such information with minimum burden upon employers, especially those operating small businesses, and to reduce to the maximum extent feasible unnecessary duplication of efforts in obtaining information (29 U.S.C. 657). The warning signs/barriers required by paragraph 1926.701(c)(2) reduce exposure of non-essential workers to the hazards of post-tensioning operations, principally a failed rope or wire striking a worker and causing serious injury. The requirements for lockout and tag ejection systems and other hazardous equipment (e.g., compressors, mixers, screens or pumps used for concrete and masonry construction) specified by paragraphs 1926.702(a)(2), (j)(1), and (j)(2) warn equipment operators not to activate their equipment if another worker enters the equipment to perform a task (e.g., cleaning, inspecting, maintaining, repairing), thereby preventing injury or death. Construction contractors and workers use the drawings, plans, and designs required by paragraph 1926.703(a)(2) to provide specific instructions on how to construct, erect, brace, maintain, and remove shores and formwork if they pour concrete at the job site. Paragraph 1926.705(b) requires employers to mark the rated capacity of jacks and lifting units. This requirement prevents overloading and subsequent collapse of jacks and lifting units, as well as their loads, thereby sparing exposed workers from serious injury or death. For additional substantive information about this ICR, see the related notice published in the Federal Register on May 20, 2020 (85 FR 30740).

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

DOL seeks PRA authorization for this information collection for three (3) years. OMB authorization for an ICR cannot be for more than three (3) years without renewal. The DOL notes that information collection requirements submitted to the OMB for existing ICRs receive a month-to-month extension while they undergo review.

Agency: DOL-OSHA.

Title of Collection: Concrete and Masonry Construction Standard.

OMB Control Number: 1218-0095.

Affected Public: Private Sector: Businesses or other for-profits.

Total Estimated Number of Respondents: 275,619.

Total Estimated Number of Responses: 275,619.

Total Estimated Annual Time Burden: 22,968 hours.

Total Estimated Annual Other Costs Burden: $0.

Authority: 44 U.S.C. 3507(a)(1)(D).

Dated: September 17, 2020.
Anthony May,
Management and Program Analyst.

[FR Doc. 2020-20952 Filed 9-22-20; 8:45 am]

BILLING CODE 4510-26-P